DEPARTMENT OF THE INTERIOR

Bureau of Land Management

[LLNVB0100.L19900000.EX0000.211B.19X MO#4500136314]

Notice of Availability of the Final Supplemental Environmental Impact Statement for the Mount Hope Project, Eureka County, Nevada

AGENCY: Bureau of Land Management, Interior.

ACTION: Notice.

SUMMARY: In compliance with the National Environmental Policy Act of 1969, as amended (NEPA), and the Federal Land Policy and Management Act of 1976, as amended (FLPMA), the Bureau of Land Management (BLM) Mount Lewis Field Office, Battle Mountain, Nevada, has prepared a Final Supplemental Environmental Impact Statement (EIS) and by this notice is announcing the beginning of the 30-day review period on the Final Supplemental EIS. The Mount Hope Project (Project) is owned by Eureka Moly, LLC (EML) and is located in central Nevada, approximately 23 miles northwest of Eureka, Nevada. The BLM has prepared this Final Supplemental EIS as a response to the United States Court of Appeals for the Ninth Circuit's remand decision for further action on issues identified in its December 28, 2016 decision.

DATES: The review period will end following a 30 day review period beginning on the date the Environmental Protection Agency publishes its Notice of Availability in the Federal Register.

ADDRESSES: For questions related to the Mount Hope Project:

• Email: blm_nv_bmdo_eurekamoly_seis@blm.gov.

• Fax: 775-635-4034.

• Mail: 50 Bastian Road, Battle Mountain, NV 89820.

Documents pertinent to this proposal may be downloaded from https://go.usa.gov/xUhRK or examined at the Mount Lewis Field Office.

FOR FURTHER INFORMATION CONTACT: Kevin Hurrell—Project Manager, telephone 775-635-4000; address 50 Bastian Road, Battle Mountain, Nevada 89820. Contact Kevin Hurrell to have your name added to our mailing list. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The Bureau of Land Management Mount Lewis Field Office authorized the Mount Hope Project Record of Decision, Plan of Operations Approval, and Approval of Issuance of Right-of-Way Grants on November 16, 2012. The Project consists of a proposed molybdenum mine including a power transmission line, a water well field, and all associated facilities to be located on public land administered by the BLM Mount Lewis Field Office and on private land controlled by EML. The Project will utilize an open pit mining method and will process the mined ore using a flotation and roasting process. When completed, a total of 8,618 acres of disturbance would occur within the 23,065-acre Project area. Of the 8,618 acres, 8,359 is public land and 259 is private land.

The BLM has prepared this Final Supplemental EIS as a response to the United States Court of Appeals for the Ninth Circuit's remand decision for further action on issues identified in its December 28, 2016 decision. The Final Supplemental EIS includes the following: (1) An explanation of the usage of baseline values of zero for several air pollutants; (2) a quantitative cumulative air quality impacts analysis; and (3) a clarification of the status of certain springs and water holes under Executive Order Public Water Reserve No. 107.

The BLM has consulted, and continues to consult, with Native American tribes on a government-to-government basis in accordance with Executive Order 13175 and other policies. Federal, State, and local agencies, along with tribes and other stakeholders that may be interested in or affected by the Project are invited to participate in the comment process.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

Jon D. Sherve,
Field Manager, Mount Lewis Field Office.

[FR Doc. 2019-18242 Filed 8-22-19; 8:45 am]

BILLING CODE 4310-HC-P